FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011155-003.

Title: Wallenius Wilhelmsen Lines/NYK Space Charter and Cooperative Working Agreement.

Parties:

Wallenius Wilhelmsen Lines AS (“WWL”),

Nippon Yusen Kaisha (“NYK”).

Synopsis: The amendment changes the name of the agreement and expands the geographic scope of the agreement to include the trade from the U.S. to Europe. It replaces the language in Articles 5, 6, and 7 with entirely new language. It also adds language to Article 9 allowing a party to withdraw on six months' notice. New Articles 10 and 11 deal with arbitration and force majeure. The changes reflect a new space charter arrangement between the parties and are intended to replace the cooperation between them under the WALLNYK Joint Service and related agreements, which the parties plan to terminate around August 1, 2003.

Agreement No.: 011290-030.

Title: International Vessel Operators Hazardous Material Association Agreement.

Parties:

APL Co. Pte. Ltd.; Atlantic Container Line AB; Australia-New Zealand Direct Line, a division of CP Ships (UK) Limited; Bermuda Container Line; Canada Maritime Agencies Ltd. (associate member); CMA CGM, S.A.; Compania Latino Americana de Navegacion SA (associate member); Contship Containerlines, a division of CP Ships (UK) Limited; Crowley Maritime Corporation; CSX Lines, LLC (associate member); Evergreen Marine Corporation (Taiwan), Ltd.; Hamburg-Südamerikanische Dampfschifffahrtgesellschaft KG (Columbus Line); Hapag-Lloyd Container Linie GmbH; Hyundai Merchant Marine Co., Ltd.; Independent Container Line Ltd.; Italia di Navigazione, S.p.A.; Kawasaki Kisen Kaisha Ltd.; Lykes Lines Limited LLC; Marine Transport Lines, Inc. (associate member); Maruba S.C.A.; Mediterranean Shipping Co. S.A.; Mitsui O.S.K. Lines, Ltd.; A.P. Moller-Maersk Sealand; National Shipping Co. of Saudi Arabia; Nippon Yusen Kaisha Line; Orient Overseas Container Line Limited; P&O Nedlloyd, Ltd.; P&O Nedlloyd B.V.; Safmarine Container Lines; TMM Lines Limited; Tropical Shipping & Construction Co., Ltd.; Wallenius Wilhelmsen Lines AS; Zim Israel Navigation Company, Ltd.

Synopsis: The amendment deletes Senator Lines GmbH as a party to the agreement adds Alianca Navegacao e Logistica Ltda.; China Shipping Container Lines Co., Ltd.; Hanjin Shipping Co., Ltd.; Seaboard Marine Ltd.; and Yang Ming Marine Transport Corp. as parties to the agreement. These membership changes became effective on filing.

Agreement No.: 011798-001.

Title: Atlantic Space Charter Agreement.

Parties:

Hapag-Lloyd Container Linie GmbH Nippon Yusen Kaisha

Orient Overseas Container Line Limited, Orient Overseas Container Line Inc., and Orient Overseas Container Line (UK) Limited (as one Party)

P&O Nedlloyd Limited/P&O Nedlloyd BV (as one Party)

Lykes Lines Limited LLC,

TMM Lines Limited, LLC (Acting as a single Party under the Grand Alliance-Americana Atlantic Agreement, FMC Agreement No. 011705) and

COSCO Container Lines Company, Limited,

Kawasaki Kisen Kaisha, Ltd.,

YangMing (UK) Ltd.,

Hanjin Container Lines, Ltd. (Acting individually).

Synopsis: The agreement is amended to: (1) Delete Hanjin Container Lines, Ltd. as a party; (2) change the name of Orient Overseas Container Line (UK) Limited to Dart-ML Limited; and (3) reduce the total space allocation to the charterers to reflect the withdrawal of Hanjin and the reduction of K-Line's allocation.

Agreement No.: 011846-001.

Title: CCNI/Maruba Cooperative Working Agreement.

Parties:

Compañia Chilena de Navegación Interoceánica S.A., Maruba S.C.A.

Synopsis: The amendment deletes Article 5(e) from the agreement, which authorizes the parties to discuss and agree on rates and surcharges.

Agreement No.: 201145.

Title: Oakland/Evergreen Marine Terminal Agreement.

Parties:

City of Oakland Board of Port Commissioners, Evergreen Marine Corporation (Taiwan) Ltd.

Synopsis: The agreement is a non-exclusive preference assignment of improved land and water area and four cranes at the port of Oakland. The agreement runs through June 2, 2013.

By Order of the Federal Maritime Commission.
Dated: June 20, 2003.
Bryant L. VanBrakle,
Secretary.

[FR Doc. 03-16095 Filed 6-24-03; 8:45 am]

BILLING CODE 6730-01-P